ENVIRONMENTAL PROTECTION AGENCY

[FRL-7782-3]

Air Quality Criteria for Particulate Matter (External Review Draft)

AGENCY: Environmental Protection Agency (EPA).

ACTION: Notice; extension of public comment period.

SUMMARY: The U.S. Environmental Protection Agency (EPA) is extending the public comment period on the revised drafts of Chapters 7, 8, and 9 of EPA's document, Air Quality Criteria for Particulate Matter, to July 30, 2004. In a previous Federal Register notice (69 FR 35028, June 23, 2004), the National Center for Environmental Assessment (NCEA), within EPA's Office of Research and Development, announced the availability for public review and comment of revised drafts of Chapters 7, 8, and 9 of EPA's document Air Quality Criteria for Particulate Matter, which incorporate revisions made in response to earlier external review of those chapters. The June 23, 2004, notice announced that the public comment period closed on July 20, in preparation for review by the EPA Science Advisory Board's Clean Air Act Scientific Advisory Committee (CASAC) on July 20 and 21, 2004. The date and arrangements for the CASAC meeting were announced in the Federal Register on June 9, 2004 (69 FR 32344).

DATES: Comments on the draft chapters must be submitted in writing no later than July 30, 2004. Send the written comments to the Project Manager for Particulate Matter, National Center for Environmental Assessment (B243-01), U.S. Environmental Protection Agency, Research Triangle Park, NC 27711.

ADDRESSES: The revised Chapters 7, 8, and 9 of the Air Quality Criteria for Particulate Matter are available on CD ROM from NCEA. Contact Ms. Diane Ray by phone (919-541-3637), fax (919-541-1818), or e-mail (ray.diane@epa.gov) to request these chapters. Please provide the document's title, Air Quality Criteria for Particulate Matter, and the EPA numbers for each of the three revised chapters (EPA/600/P-99/002aE, EPA/600/P-99/002bE), as well as your name and address, to properly process your request. The draft chapters are also available on the NCEA Web site at http://www.epa.gov/ncea. Hard copies of the revised chapters can also be made available upon request.

FOR FURTHER INFORMATION CONTACT: Dr. Robert Elias, National Center for Environmental Assessment (B243-01), U.S. Environmental Protection Agency, Research Triangle Park, NC 27711; telephone: 919-541-4167; fax: 919-541-1818; e-mail: elias.robert@epa.gov.

Dated: June 30, 2004.
Peter W. Preuss,
Director, National Center for Environmental Assessment.

[FR Doc. 04-15196 Filed 6-30-04; 1:52 pm]

BILLING CODE 6560-50-P